DEPARTMENT OF THE TREASURY

Submission for OMB Review; Comment Request

February 23, 2016.

The Department of the Treasury will submit the following information collection requests to the Office of Management and Budget (OMB) for review and clearance in accordance with the Paperwork Reduction Act of 1995, Public Law 104-13, on or after the date of publication of this notice.

DATES: Comments should be received on or before March 28, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Alcohol and Tobacco Tax and Trade Bureau (TTB)

OMB Number: 1513-0005.

Type of Review: Extension of a currently approved collection.

Title: Letterhead Applications and Notices Filed by Brewers, TTB REC 5130/2; and Brewer's Notice.

Form: F 5130.10.

Abstract: The Internal Revenue Code (IRC) requires brewers to file a notice of intent to operate a brewery. TTB F 5130.10, the Brewer's Notice, collects information similar to that collected on a permit application and, when approved by TTB, is a brewer's authorization to operate. The brewer shall maintain the approved Brewer's Notice and all associated documents at the brewery premises, in complete and current condition, readily available for inspection by an appropriate TTB officer. The regulations also require that a brewer submit a letterhead application or notice to conduct certain activities, such as to vary from regulatory requirements or to alternate brewery premises. Letterhead applications and notices are necessary to identify brewery activities so that TTB may ensure that proposed operations would comply with the IRC and would not jeopardize Federal revenues.

Affected Public: Businesses or other for-profits.

Estimated Total Annual Burden Hours: 14,870.

OMB Number: 1513-0010.

Type of Review: Revision of a currently approved collection.

Title: Formula and Process for Wine.

Form: F 5120.29.

Abstract: Proprietors intending to produce a special wine, other than standard wine or nonbeverage wine, must obtain TTB's prior approval of the formula by which the wine, or wine product made from wine, is to be made. Such proprietors may file formula approval requests on TTB F 5120.29, which describes the person filing, the type of product to be made, and the ingredients and process by which the product is to be made. TTB also may use the form to audit the product.

Affected Public: Businesses or other for-profits.

Estimated Total Annual Burden Hours: 60.

OMB Number: 1513-0014.

Type of Review: Extension of a currently approved collection.

Title: Power of Attorney.

Form: F 5000.8.

Abstract: The Internal Revenue Code (IRC) at 26 U.S.C. 6061 provides that any documents filed by industry members under the provisions of the IRC must be signed and filed in accordance with the forms and regulations prescribed by the Secretary of the Treasury. Also, the Federal Alcohol Administration Act at 27 U.S.C. 204(c) states that the Secretary shall prescribe the manner and form of all applications for basic permits under the Act. The TTB regulations require individuals signing documents and forms filed with TTB on behalf of an applicant or principal to have specific authority to do so on their behalf. TTB F 5000.8 is used to delegate authority to a specific individual to sign documents on behalf of an applicant or principal.

Affected Public: Businesses or other for-profits.

Estimated Total Annual Burden Hours: 3,250.

OMB Number: 1513-0057.

Type of Review: Extension of a currently approved collection.

Title: Letterhead Applications and Notices Relating to Wine.

Abstract: The Internal Revenue Code (IRC) regulates certain aspects of wine production and treatment because the production and treatment affect the volume of taxable wine produced. The IRC also imposes standards for natural wine, cellar treatment of natural wine, agricultural wine, and the labeling of all wines in order to protect consumers and protect the product integrity of the wine. TTB therefore requires proprietors to file letterhead applications and notices relating to certain production and treatment activities to ensure that the intended activity will not jeopardize the revenue or defraud consumers.

Affected Public: Businesses or other for-profits.

Estimated Total Annual Burden Hours: 825.

OMB Number: 1513-0088.

Type of Review: Extension of a currently approved collection.

Title: Alcohol, Tobacco, and Firearms Related Documents for Tax Returns and Claims.

Abstract: TTB is responsible for the collection of Federal excise taxes on firearms, ammunition, distilled spirits,wine, beer, tobacco products, and cigarette papers and tubes, and the collection of special occupational taxes related to tobacco products and cigarette papers and tubes. The Internal Revenue Code (IRC) requires that these excise and special occupational taxes be collected on the basis of a return and requires taxpayers to maintain records that support the information in the return. The IRC also allows for the filing of claims for the abatement or refund of taxes under certain circumstances, and the IRC requires claimants to maintain records to support such claims. The maintenance of records is necessary to determine the appropriate tax liability, verify computations on tax returns, determine the adequacy of bond coverage, and verify the correctness of claims and other adjustments to tax liability.

Affected Public: Businesses or other for-profits.

Estimated Total Annual Burden Hours: 503,921.

Brenda Simms,
Treasury PRA Clearance Officer.

[FR Doc. 2016-04204 Filed 2-25-16; 8:45 am]

BILLING CODE 4810-31-P